FEDERAL COMMUNICATIONS COMMISSION

47 CFR Part 73

[DA 05-2691, MB Docket No. 05-122, RM-11198]

Radio Broadcasting Services: Columbus and Monona, WI

AGENCY: Federal Communications Commission.

ACTION: Proposed rule; dismissal.

SUMMARY: At Media Division dismisses the Petition for Rule Making filed by Good Karma Broadcasting, LLC, proposing the reallotment of Channel 263A from Columbus to Monona, Wisconsin, and the modification of Station WTLX(FM)'s license accordingly. See 709 FR 17046, April 4, 2005. It is not conducive to the efficient processing of petitions for rule making for the Commission to accept an ungranted construction permit application as a “backfill” to replace the prospective loss of a sole local service of a community.

FOR FURTHER INFORMATION CONTACT: Sharon P. McDonald, Media Bureau, (202) 418-2180.

SUPPLEMENTARY INFORMATION: This is a synopsis of the Commission's Report and Order, MB Docket No. 05-122, adopted October 12, 2005, and released October 14, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was dismissed.

Federal Communications Commission.
John A. Karousos,
Assistant Chief, Audio Division, Media Bureau.

[FR Doc. 05-21553 Filed 11-1-05; 8:45 am]

BILLING CODE 6712-01-P